FEDERAL COMMUNICATIONS COMMISSION

[CG Docket No. 03-123; DA 07-1374]

Dismissal of Snap Telecommunications, Inc.'s Request for Limited Waiver of the Video Relay Service (VRS) Interoperability Requirements

AGENCY: Federal Communications Commission.

ACTION: Notice.

SUMMARY: In this document, the Commission dismisses Snap Telecommunications Inc.'s (Snap) request for temporary waiver of the interoperability requirements concerning the provision of Video Relay Service (VRS).

DATES: Effective March 22, 2007.

ADDRESSES: Federal Communications Commission, 445 12th Street, SW., Washington DC 20554.

FURTHER INFORMATION CONTACT: Gregory Hlibok, Consumer & Governmental Affairs Bureau, Disability Rights Office at (800) 311-4381 (Voice), (202) 418-0431 (TTY), or e-mail at Gregory.Hlibok@fcc.gov.

SUPPLEMENTARY INFORMATION: On May 9, 2006, the Commission released Telecommunications Relay Services and Speech-to-Speech Services for Individuals with Hearing and Speech Disabilities, Declaratory Ruling and Further Notice of Rulemaking, FCC 06-57, CG Docket No. 03-123, which was published in the Federal Register at 71 FR 30818, May 31, 2006 and 71 FR 30848, May 31, 2006, setting interoperability requirements concerning the provision of VRS. This is a summary of the Commission's document DA 07-1374, released March 22, 2007. A copy of document DA 07-1374 and related documents are available for public inspection and copying during regular business hours at the FCC Reference Information Center, Portals II, 445 12th Street, SW., Suite CY-A257, Washington, DC 20554, (202) 418-0270. These documents also may be purchased from the Commission's duplicating contractor at Portals II, 445 12th Street, SW., Room CY-B402, Washington, DC 20554. Customers may contact the Commission's duplicating contractor at their Web site: http://www.bcpiweb.com or by calling 1-800-378-3160. Filings also may be found by searching on the Commission's Electronic Comment Filing System (ECFS) at http://www.fcc.gov/cgb/ecfs (insert CG Docket No. 03-123 into the Proceeding block).

To request materials in accessible formats for people with disabilities (Braille, large print, electronic files, audio format), send an e-mail to fcc504@fcc.gov or call the Consumer & Governmental Affairs Bureau at (202) 418-0530 (voice), (202) 418-0432 (TTY). Document DA 07-1374 can also be downloaded in Word or Portable Document Format (PDF) at: http://www.fcc.gov/cgb/dro.

Synopsis

On July 14, 2006, Snap filed a request for a temporary waiver of the interoperability requirements concerning the provision of VRS. See Snap Request for Limited Waiver, CG Docket No. 03-123, filed July 14, 2006 (requesting a waiver until March 31, 2007). On March 6, 2007, Snap filed a letter with the Commission stating that Snap has started providing VRS and is in compliance with the VRS interoperability requirements. See Letter from Francis Buono, Counsel for Snap, to Marlene Dortch, Office of the Secretary, Federal Communications Commission (March 6, 2007). Snap requested that the Commission dismiss its waiver request as moot. In response to Snap's request, the Consumer & Governmental Affairs Bureau hereby dismisses Snap's request for temporary waiver as moot.

Federal Communications Commission.
Jay Keithley,
Deputy Bureau Chief, Consumer & Governmental Affairs Bureau.

[FR Doc. E7-6933 Filed 4-11-07; 8:45 am]

BILLING CODE 6712-01-P